COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee is proposing to add to the Procurement List products and services to be furnished by nonprofit agencies employing persons who are blind or have other severe disabilities.

Comments Must be Received on or Before: November 14, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the proposed actions. If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to the Procurement List for production by the nonprofit agencies listed:

Products

Product/NSN: Battery Nonrechargeable, Lithium, 6135-01-351-1131.

NPA: Eastern Carolina Vocational Center, Inc., Greenville, North Carolina.

Contract Activity: Defense Supply Center Richmond, Richmond, Virginia.

Product/NSN: Cups, Hot and Cold Drink

7350-00-281-3211 (Cold Drink)

7350-00-641-4517 (Hot Drink)

7350-00-641-4519 (Hot Drink)

7350-00-641-4523 (Cold Drink)

7350-00-641-4576 (Hot Drink)

7350-00-641-4587 (Cold Drink)

7350-00-641-4589 (Cold Drink)

7350-00-641-4590 (Cold Drink)

7350-00-641-4591 (Cold Drink)

7350-00-641-4592 (Cold Drink)

7350-00-641-4593 (Cold Drink)

NPA: The Lighthouse for the Blind in New Orleans, New Orleans, Louisiana.

Contract Activity: GSA, Southwest Supply Center, Fort Worth, Texas.

Product/NSN: Gloves, Chemical Protective

8415-01-509-2898

8415-01-509-2902

8415-01-509-2904

8415-01-509-2905

8415-01-509-2916

Product/NSN: Socks, Chemical Protective

8415-01-509-2875

8415-01-509-2877

8415-01-509-2879

8415-01-509-2882

8415-01-509-2883

NPA: Industrial Opportunities, Inc., Marble, North Carolina.

Contract Activity: Defense Supply Center Philadelphia, Philadelphia, Pennsylvania.

Product/NSN: Lightsticks (Chemlights)

6260-00-106-7478 (4”-Green)

6260-01-230-8601 (6”-Red—HI)

6260-01-074-4229 (6”-Green)

6260-01-074-4230 (6”-Yellow—HI)

6260-01-178-5559 (6”-Red)

6260-01-178-5560 (6”-Blue)

6260-01-195-9753 (6”-Orange)

6260-01-196-0136 (6”-Yellow)

6260-01-218-5146 (6”-White)

6260-01-247-0362 (15”-Green)

6260-01-247-0363 (6”-Orange/Ultra HI)

6260-01-247-0367 (15”-White)

6260-01-247-0368 (6”-White—HI)

6260-01-265-0612 (15”-Red)

6260-01-265-0613 (15”-Yellow)

6260-01-265-0614 (15”-Blue)

6260-01-282-7630 (4”-Orange)

NPA: L.C. Industries for the Blind, Inc., Durham, North Carolina.

Contract Activity: Defense Supply Center Philadelphia, Philadelphia, Pennsylvania.

Services

Service Type/Location: Base Supply Center, Buildings 1304 and 1305, Fort Rucker, Alabama.

NPA: Alabama Industries for the Blind, Talladega, Alabama.

Contract Activity: Department of the Army, Directorate of Contracting, Fort Rucker, Alabama.

Service Type/Location: Custodial Services, USDA, Laboratory Research Building, 6301 W. 750 North, West Lafayette, Indiana.

NPA: Wabash Center, Inc., Lafayette, Indiana.

Contract Activity: USDA, Agriculture Research Service, Peoria, Illinois.

Service Type/Location: Food Service and Food Service Attendant, 131st Fighter Wing (Air National Guard Unit—Lambert Air Base), St. Louis, Missouri.

NPA: Challenge Unlimited, Inc., Alton, Illinois.

Contract Activity: Missouri Air National Guard, Bridgeton, Missouri.

Service Type/Location: Housekeeping Services, Camp Edwards Billeting, Camp Edwards, Massachusetts.

NPA: Nauset, Inc., Hyannis, Massachusetts.

Contract Activity: Massachusetts Army National Guard, Camp Edwards, Massachusetts.

Patrick Rowe,
Deputy Executive Director.

[FR Doc. 04-23176 Filed 10-14-04; 8:45 am]

BILLING CODE 6353-01-P